FEDERAL COMMUNICATIONS COMMISSION

47 CFR Part 54

Universal Service

CFR Correction

In Title 47 of the Code of Federal Regulations, Parts 40 to 69, revised as of October 1, 2000, part 54 is corrected by adding § 54.707 as set forth below:

§ 54.707 Audit controls.

The Administrator shall have authority to audit contributors and carriers reporting data to the administrator. The Administrator shall establish procedures to verify discounts, offsets, and support amounts provided by the universal service support programs, and may suspend or delay discounts, offsets, and support amounts provided to a carrier if the carrier fails to provide adequate verification of discounts, offsets, or support amounts provided upon reasonable request, or if directed by the Commission to do so. The Administrator shall not provide reimbursements, offsets or support amounts pursuant to part 36 and § 69.116 through 69.117 of this chapter, and subparts D, E, and G of this part to a carrier until the carrier has provided to the Administrator a true and correct copy of the decision of a state commission designating that carrier as an eligible telecommunications carrier in accordance with § 54.201.

[FR Doc. 01-55517 Filed 6-5-01; 8:45 am]

BILLING CODE 1505-01-D